FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than August 28, 2023.

A. Federal Reserve Bank of Atlanta (Erien O. Terry, Assistant Vice President) 1000 Peachtree Street NE, Atlanta, Georgia 30309; Comments can also be sent electronically to Applications.Comments@atl.frb.org:

1. John Adam Robertson, Speedwell, Tennessee; to retain voting shares of Robertson Holding Company, L.P., Harrogate, Tennessee, and thereby indirectly retain voting shares of Commercial Bancgroup, Inc., and its subsidiary bank Commercial Bank, both of Harrogate, Tennessee, and AB&T Financial Corporation and its subsidiary bank Alliance Bank & Trust Company, both of Gastonia, North Carolina.

B. Federal Reserve Bank of Kansas City (Jeffrey Imgarten, Assistant Vice President) One Memorial Drive, Kansas City, Missouri 64198-0001. Comments can also be sent electronically to KCApplicationComments@kc.frb.org:

1. The Luck and Guts Trust, and Trudi Holthouse as trustee, both of Casper, Wyoming; to acquire voting shares of Jonah Bankshares, Inc., and thereby indirectly acquire voting shares of Jonah Bank, both of Casper, Wyoming.

C. Federal Reserve Bank of Chicago (Colette A. Fried, Assistant Vice President) 230 South LaSalle Street, Chicago, Illinois 60690-1414. Comments can also be sent electronically to Comments.applications@chi.frb.org:

1. The William C. Talen Revocable Trust, and Darlys Hulme, as trustee, both of Vinton, Iowa; Mary June Talen, Omaha, Nebraska; Deborah Talen and Ruth Erickson, both of Minneapolis, Minnesota; the William Talen III Revocable Trust, William Talen III and Savitri Durkee, as co-Trustees, and Julie Talen, all of New York, New York; and Robert Lassiter, Marthaville, Louisiana; to retain additional voting shares of Talen, Inc., and thereby indrectly retain voting shares of Farmers Savings Bank & Trust, both of Traer, Iowa.

Board of Governors of the Federal Reserve System.
Margaret McCloskey Shanks,
Deputy Secretary of the Board.

[FR Doc. 2023-17285 Filed 8-10-23; 8:45 am]

BILLING CODE P